DEPARTMENT OF TRANSPORTATION

Federal Aviation Administration

14 CFR Part 39

[Docket No. 2001-SW-53-AD]

RIN 2120-AA64

Airworthiness Directives; Bell Helicopter Textron Canada Model 407 Helicopters

AGENCY: Federal Aviation Administration, DOT.

ACTION: Notice of proposed rulemaking (NPRM).

SUMMARY: This document proposes superseding an existing airworthiness directive (AD) for Bell Helicopter Textron Canada (BHTC) Model 407 helicopters. That AD currently requires preflight checking and repetitively inspecting the tailboom for a crack and replacing the tailboom if a crack is found. This action would require increasing the area of inspection for certain tailbooms and changing the applicability to restrict the inspection requirements to certain tailbooms that have not been redesigned. This proposal is prompted by cracking discovered in other areas of certain tailbooms and introduction of a redesigned tailboom with a chemically milled skin, which does not require the current inspections. The actions specified by the proposed AD are intended to remove certain tailbooms from the applicability and to increase the inspection requirements for certain tailbooms to prevent separation of the tailboom and subsequent loss of control of the helicopter.

DATES: Comments must be received on or before April 1, 2002.

ADDRESSES: Submit comments in triplicate to the Federal Aviation Administration (FAA), Office of the Regional Counsel, Southwest Region, Attention: Rules Docket No. 2001-SW-53-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Sharon Miles, Aviation Safety Engineer, FAA, Rotorcraft Directorate, Regulations Group, Fort Worth, Texas 76193-0111, telephone (817) 222-5122, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments will be considered before taking action on the proposed rule. The proposals contained in this document may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 2001-SW-53-AD. The postcard will be date stamped and returned to the commenter.

Availability of NPRMs

Any person may obtain a copy of this NPRM by submitting a request to the FAA, Office of the Regional Counsel, Southwest Region, Attention: Rules Docket No. 2001-SW-53-AD, 2601 Meacham Blvd., Room 663, Fort Worth, Texas 76137.

Discussion

On March 21, 2000, the FAA issued AD 2000-06-10, Amendment 39-11651 (65 FR 16804, March 30, 2000), to require preflight checking and repetitively inspecting the tailboom for a crack and replacing the tailboom if a crack is found. That action was prompted by four reports of cracks on the tailboom in the area of the horizontal stabilizer. The requirements of that AD are intended to prevent separation of the tailboom and subsequent loss of control of the helicopter.

Since the issuance of AD 2000-06-10, BHTC has issued Alert Service Bulletin ASB 407-99-26, Revision B, dated June 14, 2001 (ASB), to announce the release of an improved design tailboom assembly, P/N 407-030-801-201, that has been installed on BHTC Model 407 helicopters, serial number (S/N) 53476 and subsequent. The ASB states that these redesigned tailboom assemblies do not need the recurring inspection. For affected tailbooms, the ASB specifies extending the visual inspection to the area near certain fasteners on the left side of the tailboom forward of the horizontal stabilizer. Transport Canada, the airworthiness authority for Canada, classified this ASB as mandatory and issued AD CF-1999-17R1, dated July 24, 2001, to ensure the continued airworthiness of these helicopters in Canada.

This helicopter model is manufactured in Canada and is type certificated for operation in the United States under the provisions of 14 CFR 21.29 and the applicable bilateral agreement. Pursuant to this bilateral agreement, Transport Canada has kept the FAA informed of the situation described above. The FAA has examined the findings of Transport Canada, reviewed all available information, and determined that AD action is necessary for products of this type design that are certificated for operation in the United States.

This unsafe condition is likely to exist or develop on other helicopters of the same type design. Therefore, the proposed AD would supersede AD 2000-06-10 to contain the same requirements but would increase the areas of inspection for the tailbooms and would reduce the applicability to restrict the inspections to certain tailbooms. Installing a redesigned tailboom, P/N 407-030-801-201, would constitute terminating action for the requirements of this AD. An owner/operator (pilot) holding at least a private pilot certificate may perform the visual check required by paragraph (a) of this AD but must enter compliance with that paragraph into the helicopter records in accordance with 14 CFR 43.11 and 91.417(a)(2)(v). A pilot can perform this check because it involves only a visual check for a crack in the tailboom and is a part of a normal pilot preflight check.

The FAA estimates that 200 helicopters of U.S. registry would be affected by this proposed AD, that it would take approximately 5 hours for initial and recurring inspections per helicopter, and that the average labor rate is $60 per work hour. Based on these figures, the total cost impact of the proposed AD on U.S. operators is estimated to be $60,000 assuming no tailboom will be replaced.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-11651 (65 FR 16804, March 30, 2000), and by adding a new airworthiness directive (AD), to read as follows:

Bell Helicopter Textron Canada: Docket No. 2001-SW-53-AD. Supersedes AD 2000-06-10, Amendment 39-11651, Docket No. 99-SW-75-AD.

Applicability: Model 407 helicopters, serial number (S/N) 53000 through 53475 with tailboom, part number (P/N) 407-030-801-101, -105, or -107, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (d) of this AD. The request should include an assessment of the effect of the modification, alteration, or repair on the unsafe condition addressed by this AD; and if the unsafe condition has not been eliminated, the request should include specific proposed actions to address it.

Compliance: Required as indicated, unless accomplished previously.

To prevent separation of the tailboom and subsequent loss of control of the helicopter, accomplish the following:

(a) Before further flight and thereafter before the first flight of each day, check the tailboom for a crack in accordance with Figure 1 of this AD. If a crack is found, remove the tailboom before further flight. An owner/operator (pilot) holding at least a private pilot certificate may perform the visual check required by this paragraph but must enter compliance with this paragraph into the helicopter records in accordance with 14 CFR 43.11 and 91.417(a)(2)(v). A pilot can perform this check because it involves only a visual check for a crack in the tailboom and is a part of a normal pilot preflight check.

BILLING CODE 4910-13-U

BILLING CODE 4910-13-C

(b) Within 25 hours time-in-service (TIS) and thereafter at intervals not to exceed 50 hours TIS, visually inspect any tailboom with 600 or more hours TIS for a crack using a 10x or higher magnifying glass in accordance with the Accomplishment Instructions, Part II, of Bell Helicopter Textron Alert Service Bulletin ASB 407-99-26, Revision B, dated June 14, 2001, except you are not required to contact Bell Helicopter Product Support Engineering. If a crack is found, remove the tailboom before further flight.

(c) Installing a tailboom, P/N 407-030-801-201, is terminating action for the requirements of this AD.

(d) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(e) Special flight permits may be issued in accordance with 14 CFR 21.197 and 21.199 to operate the helicopter to a location where the requirements of this AD can be accomplished.

Note 3: The subject of this AD is addressed in Transport Canada AD CF-1999-17R1, dated July 24, 2001.

Issued in Fort Worth, Texas, on January 17, 2002.
David A. Downey,
Manager, Rotorcraft Directorate, Aircraft Certification Service.

[FR Doc. 02-2427 Filed 1-30-02; 8:45 am]

BILLING CODE 4910-13-U